DEPARTMENT OF TRANSPORTATION

Maritime Administration

[Docket No. MARAD-2025-0072]

Request for Comments on the Renewal of a Previously Approved Collection: Generic Clearance for the Collection of Qualitative Feedback on Agency Service Delivery

AGENCY: Maritime Administration, DOT.

ACTION: Notice.

SUMMARY: The Maritime Administration (MARAD) invites public comments on our intention to request approval from the Office of Management and Budget (OMB) to renew an information collection in accordance with the Paperwork Reduction Act of 1995. The proposed collection OMB 2133-0543 (Generic Clearance for the Collection of Qualitative Feedback on Agency Service Delivery) is used to identify strengths and weaknesses of current services and make improvements in MARAD service delivery. We are required to publish this notice in the Federal Register to obtain comments from the public and affected agencies.

DATES: Comments must be submitted on or before July 28, 2025.

ADDRESSES: You may submit comments identified by Docket No. MARAD-2025-0072 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Tamelia Bolton, 202-366-4623, Office of Management and Administrative Services, U.S. Maritime Administration, Department of Transportation, 1200 New Jersey Ave. SE, Washington, DC 20590, Email: Tamelia.Bolton@dot.gov.

SUPPLEMENTARY INFORMATION:

Title: Generic Clearance for the Collection of Qualitative Feedback on Agency Service Delivery.

OMB Control Number: 2133-0543.

Type of Request: Extension without change of a currently approved collection.

Abstract: This collection of information allows MARAD to garner customer and stakeholder feedback in an efficient, timely manner, in accordance with our commitment to improving service delivery. The information collected from our customers and stakeholders will help ensure that users have an effective, efficient, and satisfying experience with MARAD's programs.

Respondents: Individuals and Households, Businesses and Organizations, State, Local or Tribal Government.

Affected Public: Business or other for profit.

Estimated Number of Respondents: 6,000.

Estimated Number of Responses: 6,000.

Estimated Hours per Response: 10-120 minutes.

Annual Estimated Total Annual Burden Hours: 1,958.

Frequency of Response: Once annually.

(Authority: The Paperwork Reduction Act of 1995; 44 U.S.C. Chapter 35, as amended; and 49 CFR 1.49.)

By Order of the Maritime Administration.
T. Mitchell Hudson, Jr.,
Secretary, Maritime Administration.

[FR Doc. 2025-09536 Filed 5-27-25; 8:45 am]

BILLING CODE 4910-81-P